DEPARTMENT OF AGRICULTURE

Forest Service

Notice of Southwest Idaho Resource Advisory Committee Meeting

AGENCY: USDA, Forest Service.

ACTION: Notice of meeting.

SUMMARY: Pursuant to the authorities in the Federal Advisory Committee Act (Pub. L. 92-463) and under the Secure Rural Schools and Community Self-Determination Act of 2000 (Pub. L. 106-383), the Boise and Payette National Forests' Southwest Idaho Resource Advisory Committee will meet for a business meeting.

DATES: Wednesday, April 21, 2004, beginning at 10:30 a.m.

ADDRESSES: The meeting will be held at the Idaho Counties Risk Management Program (ICRMP) building, 3100 South Vista Ave., Boise, Idaho.

FOR FURTHER INFORMATION CONTACT: Randy Swick, Designated Federal Officer, at (208) 634-0401 or electronically at rswick@fs.fed.us.

SUPPLEMENTARY INFORMATION: Agenda topics include review and approval of project proposals, and an open public forum. The meeting is open to the public.

Dated: March 25, 2004.
Mark J. Madrid,
Forest Supervisor, Payette National Forest.

[FR Doc. 04-7346 Filed 3-31-04; 8:45 am]

BILLING CODE 3410-11-M